DEPARTMENT OF ENERGY

Federal Energy Regulatory Commission

[Docket Nos. RM01-12-000 and EL02-101-000]

Remedying Undue Discrimination Through Open Access Transmission Service and Standard Electricity Market Design; Notice of Technical Conference

May 21, 2003.

Cleco Power LLC; Dalton Utilities (Acting as agent for the City of Dalton, Georgia); Entergy Services, Inc. (Acting as agent for Entergy Arkansas, Inc., Entergy Gulf States, Inc., Entergy Louisiana, Inc., Entergy, Mississippi, Inc., and Entergy New Orleans, Inc.); Georgia Transmission Corporation; JEA (formerly Jacksonville Electric Authority); MEAG Power; Sam Rayburn G & T Electric Cooperative, Inc.; Southern Company Services, Inc. (Acting as agent for Alabama Power Company, Georgia Power Company, Gulf Power Company, Mississippi Power Company, and Savannah Electric and Power Company); and the City of Tallahassee, Florida

1. Take notice that a technical conference will be held on June 5, 2003, from approximately 10 a.m. to 4 p.m. at the Atlanta Hilton Hotel, 255 Courtland NE., Atlanta, Georgia. Members of the Commission will attend and participate in the discussions. An agenda will be issued at a later time.

2. This conference is one in a series of regional technical conferences announced in the White Paper issued in Docket No. RM01-12-000 on April 28, 2003. The purpose of the conference is to discuss wholesale market platform and RTO issues. The Commission intends to use these conferences to discuss with states and market participants in each region reasonable timetables for addressing wholesale market design issues and to explore ways to provide the flexibility the region may need to meet the requirements of the final rule in this proceeding.

3. The conference is open for the public to attend, and registration is not required; however, in-person attendees are asked to register for the conference on-line at http://www.ferc.gov/home/conferences.asp.

4. Transcripts of the conference will be immediately available from Ace Reporting Company (202-347-3700 or 1-800-336-6646) for a fee. They will be available for the public on the Commission's FERRIS system seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

5. Questions about the conference program should be directed to: Steve Rodgers, Director, Division of Tariffs & Market Development—South, Office of Markets, Tariffs & Rates, Federal Energy Regulatory Commission, 888 First Street, NE., Washington, DC 20426, (202) 502-8227, steve.rodgers@ferc.gov.

Sarah McKinley, Manager of State Outreach, Office of External Affairs, Federal Energy Regulatory Commission, 888 First Street, NE., Washington, DC 20426, (202) 502-8368, sarah.mckinley@ferc.gov.

Magalie R. Salas,
Secretary.

[FR Doc. 03-13295 Filed 5-28-03; 8:45 am]

BILLING CODE 6717-01-P